DEPARTMENT OF HOMELAND SECURITY

Federal Emergency Management Agency

44 CFR Part 67

[Docket No. FEMA-B-7469]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, 500 C Street SW., Washington, DC 20472, (202) 646-3151.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. As flood elevation determinations are not within the scope of the Regulatory Flexibility Act, 5 U.S.C. 601-612, a regulatory flexibility analysis is not required.

Regulatory Classification. This proposed rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Beaver Dam Creek | Approximately 1,500 feet upstream of the confluence with Flint River | +796 | +797 | Clayton County (Unincorporated Areas).
| Approximately 2,500 feet upstream of the confluence with Flint River | +796 | +797 |
East Tributary of Jester Creek | At the confluence with West Tributary Jester Creek | +930 | +933 | City of Forest Park.
| Approximately 260 feet upstream of the confluence with West Tributary Jester Creek | +932 | +933 |
Flint River Tributary | Approximately 570 feet upstream of the confluence with Flint River | +842 | +843 | Clayton County (Unincorporated Areas), City of Riverdale.
| Approximately 1,250 feet upstream of the confluence with Flint River | +843 | +844
Hurricane Creek | Approximately 60 feet downstream of Turner Road | +783 | +784 | Clayton County (Unincorporated Areas).
| Approximately 350 feet upstream of Turner Road | +783 | +784 |
Jester Creek | Approximately 200 feet upstream of the confluence with Flint River | +815 | +816 | Clayton County (Unincorporated Areas).
| Approximately 60 feet upstream of Tara Boulevard/U.S. Highway 41/19/State Highway 3 | +815 | +816 |
Lake Spivey | Entire shoreline | None | +786 | Clayton County (Unincorporated Areas).
Mud Creek | At the confluence Flint River | +837 | +838 | Clayton County (Unincorporated Areas).
| Approximately 850 feet downstream of Ashmore Drive | +840 | +841 |
Panther Creek | Approximately 3,600 feet downstream of State Highway 413/Interstate Highway 675 | +752 | +750 | Clayton County (Unincorporated Areas).
| Approximately 2,220 feet downstream of State Highway 413/Interstate Highway 675 | +752 | +751 |
Sullivan Creek | At the confluence with Flint River | +858 | +859 | Clayton County (Unincorporated Areas).
| Approximately 1,000 feet upstream of the confluence with Flint River | +859 | +860 |
Upton Creek | Approximately 50 feet upstream of Double Bridge Road | +802 | +803 | Clayton County (Unincorporated Areas).
| Approximately 2,325 feet upstream of Double Bridge Road | +805 | +806 |
West tributary of Jester Creek | At the confluence with Jester Creek | +923 | +924 | City of Forest Park.
| Approximately 320 feet upstream of confluence with Jester Creek | +923 | +924 |
* National Geodetic Vertical Datum.
# Depth in feet above ground.
+ North American Vertical Datum.
ADDRESSES
Clayton County (Unincorporated Areas)
Maps are available for inspection at Clayton County Transportation and Development Department, 7960 North McDonourgh Street, Jonesboro, Georgia.
Send comments to Mr. Eldrin Bell, Commissioner, Clayton County Board of Commissioners, Clayton County Administration, Annex 1, 112 Smith Street, Jonesboro, Georgia 30236.
City of Forest Park
Maps are available for inspection at City of Forest Park Public Works Department, 5230 Jones Road, Forest Park, Georgia.
Send comments to The Honorable Charles Hall, Mayor, City of Forest Park, 745 Forest Parkway, Forest Park, Georgia 30297.
City of Riverdale
Maps are available for inspection at Riverdale Community Department, 971 Wilson Road, Riverdale, Georgia.
Send comments to The Honorable Phaedra Graham, Mayor, City of Riverdale, 6690 Church Street, Riverdale, Georgia 30274.
Muscogee County, Georgia (Consolidated Government)
Califon Creek | At the confluence with Lower Bull Creek | +227 | +228 | City of Columbus— (Muscogee County Consolidated Government).
| Approximately 400 feet upstream of Benning Drive | +227 | +228 |
Lindsey Creek | At the confluence with Lower Bull Creek | +241 | +242 | City of Columbus— Muscogee County (Consolidated Government).
| Approximately 440 feet upstream of Morris Road | +241 | +242 |
Lower Bull Creek | At the confluence with Chattahoochee River | +227 | +228 | City of Columbus— Muscogee County (Consolidated Government).
| Approximately 850 feet upstream of Cusseta Road | +227 | +228 |
Upper Bull Creek | Just upstream of Flood Control Dam No. 1 | +406 | +404 | City of Columbus— Muscogee County (Consolidated Government).
| Approximately 2,660 feet upstream Alternate U.S. Highway 27/State Highway 85 | +406 | +405 |
Weracoba Creek | At the confluence with Lower Bull Creek | +227 | +228 | City of Columbus— Muscogee County (Consolidated Government).
| At U.S. Highway 27/Victory Drive | +227 | +228 |
* National Geodetic Vertical Datum.
# Depth in feet above ground.
+ North American Vertical Datum.
ADDRESSES
City of Columbus
Maps are available for inspection at the Department of Engineering, 420 Tenth Street, Second Floor, Columbus, Georgia.
Send Comments to The Honorable Robert S. Poydasheff, Mayor, City of Columbus, 100 Tenth Street, Sixth Floor, Government Center Tower, Columbus, Georgia 13901.
Newton County, Georgia and Incorporated Areas
Town Branch (Rogers Branch) | Approximately 200 feet upstream of confluence with Dried Indian Creek | +661 | +662 | City of Covington.
| Approximately 710 feet downstream of Rebecca Street | +661 | +662
* National Geodetic Vertical Datum.
# Depth in feet above ground.
+ North American Vertical Datum.
ADDRESSES
City of Covington
Maps are available for inspection at 2194 Emory Street, NW., Covington, Georgia.
Send Comments to The Honorable Sam Ramsey, Mayor, City of Covington, 2194 Emory Street, NW., Covington, Georgia 30014.

(Catalog of Federal Domestic Assistance No. 83.100, “Flood Insurance.”)

Dated: October 5, 2006.
David I. Maurstad,
Director, Mitigation Division, Federal Emergency Management Agency, Department of Homeland Security.

[FR Doc. E6-17272 Filed 10-16-06; 8:45 am]

BILLING CODE 9110-12-P